DEPARTMENT OF JUSTICE

Federal Bureau of Investigation

Meeting of the Compact Council for the National Crime Prevention and Privacy Compact

AGENCY: Federal Bureau of Investigation, Department of Justice.

ACTION: Meeting notice.

SUMMARY: The purpose of this notice is to announce a meeting of the National Crime Prevention and Privacy Compact Council (Council) created by the National Crime Prevention and Privacy Compact Act of 1998 (Compact).

DATES: The Council will meet in open session from 8:30 a.m. (EDT) until 5:00 p.m. (EDT) on November 2, 2022.

ADDRESSES: The meeting will take place at the Sheraton Atlanta Hotel, 165 Courtland Street NE, Atlanta, Georgia 30303.

FOR FURTHER INFORMATION CONTACT: Inquiries may be addressed to Ms. Chasity S. Anderson, FBI Compact Officer, Biometric Technology Center, 1000 Custer Hollow Road, Clarksburg, West Virginia 26306, telephone 304-625-2803.

SUPPLEMENTARY INFORMATION: Thus far, the Federal Government and 34 states are parties to the Compact which governs the exchange of criminal history records for licensing, employment, immigration and naturalization matters, and similar noncriminal justice purposes. The Compact provides a legal framework for the establishment of a cooperative federal-state system to exchange such records.

The United States Attorney General appointed 15 persons from state, local, and federal agencies to serve on the Council. The Council will prescribe system rules and procedures for the effective and proper operation of the Interstate Identification Index system for noncriminal justice purposes.

Matters for discussion are expected to include:

(1) Recommendations from the National Fingerprint File Qualifications Requirements Focus Group

(2) Modernization of the CJIS Security Policy

(3) Council's Strategic Plan

The meeting will be conducted with a blended participation option. The meeting will be open to the public on a first-come, first-serve basis with limited seating due to COVID-19 safety protocols. Virtual options for participation will be made available to individuals unable to attend in-person.

To register for the meeting, individuals must provide their full name, city, state, agency/company name, phone, and email address to agmu@leo.gov no later than October 14, 2022. Individuals registering to participate in the meeting must indicate preference to attend the meeting in-person or virtually. Logistical information regarding participation will be provided prior to the meeting to all registered individuals.

Any member of the public wishing to file a written statement with the Council or wishing to address this session of the Council should notify the FBI Compact Officer, Ms. Chasity S. Anderson at compactoffice@fbi.gov, at least 7 days prior to the start of the session. The notification should contain the individual's name and corporate designation, consumer affiliation, or government designation, along with a short statement describing the topic to be addressed and the time needed for the presentation. Individuals will ordinarily be allowed up to 15 minutes to present a topic. The Compact Officer will compile all requests and submit to the Compact Council for consideration.

Individuals requiring special accommodations should contact Ms. Anderson at compactoffice@fbi.gov by no later than October 18, 2022. Please note all personal registration information may be made publicly available through a Freedom of Information Act request.

Chasity S. Anderson,
FBI Compact Officer, Criminal Justice Information Services Division, Federal Bureau of Investigation.

[FR Doc. 2022-21402 Filed 9-30-22; 8:45 am]

BILLING CODE 4410-02-P